DEPARTMENT OF AGRICULTURE

Submission for OMB Review; Comment Request

June 23, 2005.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Grain Inspection, Packers and Stockyard Administration

Title: Livestock and Meat Marketing Study (Part 1—Survey Data Collection).

OMB Control Number: 0580-NEW.

Summary of Collection: The Grain Inspection, Packers and Stockyards Administration (GIPSA) administers the Packers and Stockyards Act of 1921, as amended and supplemented (7 U.S.C. 71-87) (USGSA), and the Agricultural Marketing Act of 1946, as amended (7 U.S.C. 181-229) (P&S Act). The P&S Act prohibits unfair, deceptive and fraudulent practices by market agencies, dealers, stockyards, packers, swine contractors, and live poultry dealers in the livestock, meatpacking, and poultry industries. During the development of the 2002 Farm Bill, the Senate considered an amendment to the P&S Act that would make it unlawful for a packer to own, control, or feed livestock intended for slaughter. In fiscal year 2003, GIPSA received $4.5 million in appropriations for a packer concentration study (Public Law 108-7, 117 Stat. 22). Congress stated that the study should address issues related to packer ownership of livestock. The survey will be conducted for cattle, hog, and lamb and their meat products among producers, feeders, dealers, meat packers, meat processors, food wholesalers, food retailers, food service operations, and meat exporters.

Need and Use of the Information: The purpose of the survey is to collect information on the use and terms of alternative marketing arrangements, volume of livestock and meat products transferred through spot and alternative marketing arrangements, and respondents' perceptions regarding the costs and benefits associated with using alternative marketing arrangements.

Description of Respondents: Business or other for-profit; farms.

Number of Respondents: 3,460.

Frequency of Responses: Reporting: on occasion.

Total Burden Hours: 3,589.

Grain Inspection, Packers and Stockyard Administration

Title: Livestock and Meat Marketing Study (Part 2—Transactions Data Collection).

OMB Control Number: 0580-NEW.

Summary of Collection: The Grain Inspection, Packers and Stockyards Administration (GIPSA) administers the Packers and Stockyards Act of 1921, as amended and supplemented (7 U.S.C. 71-87) (USGSA), and the Agricultural Marketing Act of 1946, as amended (7 U.S.C. 181-229) (P&S Act). The P&S Act prohibits unfair, deceptive and fraudulent practices by market agencies, dealers, stockyards, packers, swine contractors, and live poultry dealers in the livestock, meatpacking, and poultry industries. During the development of the 2002 Farm Bill, the Senate considered an amendment to the P&S Act that would make it unlawful for a packer to own, control, or feed livestock intended for slaughter. In fiscal year 2003, GIPSA received $4.5 million in appropriations for a packer concentration study (Public Law 108-7, 117 Stat. 22). Congress stated that the study should address issues related to packer ownership of livestock. To conduct the Livestock and Meat Marketing Study, data needs to be collected on procurement and sales transactions from the largest meat packers, meat processors, food wholesalers, food retailers, food service operators and meat exporters.

Need and Use of the Information: The study will examine the use and economic effects of various methods for transferring cattle, hogs, lambs, and meat between successive stages of the livestock and meat marketing system. It will examine marketing arrangements from the first producer (that is, cow-calf producers, lamb producers, and hog farrowing operations) to the procurement of meat and meat products by wholesalers, retailer, food service operators, and exporters.

Description of Respondents: Business or other for-profit; farms.

Number of Respondents: 268.

Frequency of Responses: Reporting: on occasion.

Total Burden Hours: 29,120.

Charlene Parker,
Departmental Information Collection Clearance Officer.

[FR Doc. 05-12776 Filed 6-28-05; 8:45 am]

BILLING CODE 3410-KD-P